FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than September 8, 2022.

A. Federal Reserve Bank of New York (Ivan Hurwitz, Head of Bank Applications) 33 Liberty Street, New York, New York 10045-0001. Comments can also be sent electronically to Comments.applications@ny.frb.org:

1. Trust u/a 2nd(3) u/w of Hubert B. Phipps for Hubert G. Phipps, Woodbridge, New Jersey; Trust u/a 2nd(4)(a) u/w Hubert B. Phipps for Hubert G. Phipps, Woodbridge, New Jersey; Trust u/a 2nd(3) u/w Hubert B. Phipps for Melissa Phipps, Woodbridge, New Jersey; Trust u/a 2nd(4)(a) u/w Hubert B. Phipps for Melissa Phipps, Woodbridge, New Jersey; Frederick E. Guest II Trust dated 12/10/2014, Wilmington, Delaware; Trust f/b/o Alexander M.D. Guest u/Art. 7(B)(5) u/w Winston F.C. Guest, Deceased, New York, New York; Trust f/b/o Cornelia C. Guest u/Art. 7(B)(5) u/w Winston F.C. Guest, Deceased, New York, New York; Trust f/b/o Winston Guest, Jr. u/Art. 7(B)(5) u/w Winston F.C. Guest, Deceased, New York, New York; and Elizabeth Guest Stevens Revocable Trust dated June 21, 2011, Woodbridge, New Jersey (collectively, the “EGS Trusts”); Elizabeth Guest Stevens, Washington, District of Columbia, as trustee of the EGS Trusts; the Achille Murat Guest Revocable Trust (“AMG Trust”), Richmond, Virginia; Achille Murat Guest, as trustee of the AMG Trust; Virginia Guest Valentine, Palm Beach, Florida; and Laetitia A. Guest Oppenheim, Palm Beach, Florida; together as a group acting in concert, to acquire voting shares of The Bessemer Group, Incorporated, Woodbridge, New Jersey, and thereby indirectly acquire voting shares of Bessemer Trust Company, N.A., New York, New York, and Bessemer Trust Company, Woodbridge, New Jersey.

B. Federal Reserve Bank of Dallas (Karen Smith, Director, Applications) 2200 North Pearl Street, Dallas, Texas 75201-2272:

1. Preston L. Massey, as co-trustee of the Elizabeth Shatto Massey Separate Property Trust (“ESM Trust”); as trustee of the John H. Massey, II 2011 Trust; and as trustee of a 2012 trust for the benefit of John H. Massey, II and 2 minors; all of Dallas, Texas; and John H. Massey, II, as co-trustee of the ESM Trust; as trustee of the Preston L. Massey 2011 Trust; and as trustee of a 2012 trust for the benefit of Preston L. Massey and 2 minors; all of Houston, Texas; together as a group acting in concert, to retain voting shares of Central Texas Bankshare Holdings, Inc., Columbus, Texas, and thereby indirectly retain voting shares of Colorado County Investment Holdings, Inc., Wilmington, Delaware; Hill Bancshare Holdings, Inc., Weimar, Texas; Hill Bancshares of Delaware, Inc., Wilmington, Delaware; Hill Bank & Trust Co., Weimar, Texas; and Columbus State Bank, Columbus, Texas.

Board of Governors of the Federal Reserve System.
Ann E. Misback,
Secretary of the Board.

[FR Doc. 2022-18285 Filed 8-23-22; 8:45 am]

BILLING CODE P